SECURITIES AND EXCHANGE COMMISSION

[File No. 500-1]

In the Matter of Digital Concepts International, Inc., Integrated Homes, Inc., Lighthouse Fast Ferry, Inc. and Wannigan Capital Corp.; Order of Suspension of Trading

December 28, 2006.

It appears to the Securities and Exchange Commission that there is a lack of current and accurate information concerning the securities of Digital Concepts International, Inc., because it is delinquent in its periodic filing obligations under Section 13(a) of the Securities Exchange Act of 1934 (“Exchange Act”), and Rules 13a-1 and 13a-13 thereunder, having never filed a periodic report after its Form 10-SB filed on March 8, 2002, and amended on July 2, 2002, went effective registering its securities.

It appears to the Securities and Exchange Commission that there is a lack of current and accurate information concerning the securities of Integrated Homes, Inc., because it is delinquent in its periodic filing obligations under Section 13(a) of the Exchange Act, and Rules 13a-1 and 13a-13 thereunder, having not filed a periodic report after its Form 10-SB filed on October 13, 2000, went effective registering its securities.

It appears to the Securities and Exchange Commission that there is a lack of current and accurate information concerning the securities of Lighthouse Fast Ferry, Inc., because it is delinquent in its periodic filing obligations under Section 13(a) of the Exchange Act, and Rules 13a-1 and 13a-13 thereunder, having not filed a periodic report since the period ending June 30, 2002.

It appears to the Securities and Exchange Commission that there is a lack of current and accurate information concerning the securities of Wannigan Capital Corp. (f/k/a ThermoElastic Technologies, Inc.), because it is delinquent in its periodic filing obligations under Section 13(a) of the Exchange Act, and Rules 13a-1 and 13a-13 thereunder, having not filed a periodic report since the period ending September 30, 2002.

The Commission is of the opinion that the public interest and the protection of investors require a suspension of trading in the securities of the above-listed companies.

Therefore, it is ordered, pursuant to Section 12(k) of the Exchange Act, that trading in the above-listed companies is suspended for the period from 9:30 a.m. EST on December 28, 2006, through 11:59 p.m. EST on January 11, 2007.

By the Commission.
Jill M. Peterson,
Assistant Secretary.

[FR Doc. 06-9967 Filed 12-28-06; 11:06 am]

BILLING CODE 8011-01-P